DEPARTMENT OF HEALTH AND HUMAN SERVICES (HHS)

Emergency Care Coordination Center (ECCC)

AGENCY: Department of Health and Human Services, Office of the Assistant Secretary for Preparedness and Response.

ACTION: Notice.

Executive Summary

The Emergency Care Coordination Center (ECCC) is a new strategic entity that is located within the Office of the Assistant Secretary for Preparedness and Response (ASPR) at the Department of Health and Human Services, in fulfillment of Homeland Security Presidential Directive #21 and in response to the following 2006 Institute of Medicine Reports: Emergency Care for Children, Hospital-Based Emergency Care and Emergency Medical Services: At the Crossroads. HHS recognizes that the successful delivery of daily emergency care is a necessary foundation for our nation's emergency preparedness efforts. Public health and medical disaster readiness continue to be priorities for the U.S. government (USG). Improving the resiliency, efficiency, effectiveness, and capacity of daily hospital emergency medical care delivery will strengthen the nation's state of readiness for public health emergencies and disasters.

The primary mission of the ECCC is to support the USG's coordination of in-hospital emergency medical care activities and to promote programs and resources that improve the delivery of our nation's daily emergency medical care and emergency behavioral health care. This will be accomplished through various mechanisms, including the promotion of both clinical and systems-based emergency medical care research, dissemination of lessons learned-including those from the care of our men and women wounded in combat-and, finally, the development of partnerships throughout the USG and the emergency care stakeholder community to promote the translation of validated, evidence-based research into daily clinical practice. The ECCC will actively reach out to private sector stakeholders and Federal collaborators across the USG in order to encourage the coordination of emergency medical care efforts throughout existing and future Federal initiatives.

The ECCC, through multi-level Federal collaboration, will create the Council on Emergency Medical Care (CEMC), a coalition comprised of subject-matter experts with representation from organizations across the USG. The CEMC will serve as both a strategic and operational element of the ECCC, providing policy level guidance and facilitating agency involvement. This entity will contribute to the development and advancement of ECCC priorities and will inform the development of joint strategies and cohesive policies across the USG to collaborate and coordinate ongoing efforts to improve the nation's emergency medical care.

The ECCC will work in coordination with the Federal Interagency Committee for Emergency Medical Services (FICEMS). Whereas FICEMS was established to ensure coordination among the Federal agencies involved with state, local, tribal, or regional emergency medical services and 9-1-1 systems, and specifically focuses on issues relating to pre-hospital care, the ECCC is established to address issues relating to in-hospital emergency department care. Together, the ECCC and FICEMS will contribute to an Emergency Care Enterprise (ECE) that will coordinate efforts of the USG throughout the broad spectrum of emergency medical care.

For further information, contact the Emergency Care Coordination Center at ECCC@hhs.gov, or visit the Web site at: http://www.hhs.gov/aspr/opeo/eccc/

Dated: April 16, 2009.
W. Craig Vanderwagen,
Assistant Secretary for Preparedness and Response, U.S. Department of Health and Human Services.

[FR Doc. E9-9719 Filed 4-28-09; 8:45 am]

BILLING CODE 4150-37-P